CONSUMER PRODUCT SAFETY COMMISSION

Sunshine Act Meeting

FEDERAL REGISTER CITATION OF PREVIOUS ANNOUNCEMENT: Vol. 66, No. 199, Monday, October 15, 2001, page 52396.

PREVIOUSLY ANNOUNCED TIME AND DATE OF MEETING: 10 a.m., Tuesday, October 16, 2001.

CHANGES IN MEETING: The Commission meeting regarding Purchaser Identification Card Program (ANPR) was canceled and is rescheduled for Tuesday, October 23, 2001 at 10 a.m.

For a recorded message containing the latest agenda information, call (301) 504-0709.

CONTACT PERSON FOR ADDITIONAL INFORMATION: Todd A. Stevenson, Office of the Secretary, 4330 East-West Highway, Bethesda, MD 20207, (301) 504-0800.

Dated: October 15, 2001.
Todd A. Stevenson,
Acting Secretary.

[FR Doc. 01-26274 Filed 10-15-01; 12:57 pm]

BILLING CODE 6355-01-M